FEDERAL MARITIME COMMISSION

[Petition No. P1-16]

Petition of COSCO Container Lines Company Limited for an Exemption From Commission Regulations; Notice of Filing of Request for Extension of Time

This is to provide notice of filing and to invite comments on or before May 27, 2016, with regard to a requested extension of time for an exemption previously granted as described below.

On January 15, 2016, COSCO Container Lines Company Limited (“COSCON”) (Petitioner), petitioned the Commission pursuant to 46 CFR 502.76 of the Commission's Rules of Practice and Procedure, for an exemption from the Commission's rules requiring individual service contract amendments, 46 CFR 530.10. Petitioner explained that “[o]n or about March 1, 2016, COSCON will acquire by time charter the containerships and certain other assets of China Shipping Container Lines Co. (“China Shipping”)” and, as such, requested that the Commission permit the submission of a “universal notice to the Commission and to the service contract parties” instead of filing an amendment for each of the seven hundred (700) service contracts that will be assigned to COSCON. In addition COSCON proposed to send electronic notice to each shipper counter party. Because China Shipping tariffs would be taken over by COSCON and renumbered and republished, COSCON also sought a waiver to avoid amending each contract with the new tariff number, by publishing a notice of the change in the existing China Shipping and COSCON tariffs. Notice of the Petition appeared in the Federal Register on January 27, 2016, 81 FR 4627.

The Commission granted the Petition by Order on February 29, 2016 and ordered that the new COSCON tariff remain in effect only until June 1, 2016 noting that “most of the relevant service contracts will expire on or before April 30, 2016, rendering the new tariffs unnecessary after that date.” On May 13, 2016, COSCON filed a Petition for extension of the exemption stating that “there remains a very limited number of shippers (around 30), as to which the discussions have taken longer than COSCON anticipated,” and so requests a continuation of the exemption to July 31, 2016.

The Petition and related documents are posted on the Commission's Web site at http://www.fmc.gov/p1-16. Comments filed in response to this Petition will be posted on the Commission's Web site at this location.

In order for the Commission to make a thorough evaluation of the Petition requesting extension of the exemption, interested persons are requested to submit views or arguments in reply to the Petition for Extension of Exemption no later than May 27, 2016. Commenters must send an original and 5 copies to the Secretary, Federal Maritime Commission, 800 North Capitol Street NW., Washington, DC 20573-0001, and be served on Petitioner's counsel, Robert B. Yoshitomi, or Eric C. Jeffrey, Nixon Peabody LLP, 799 9th Street NW., Washington, DC 20001. A PDF copy of the reply must also be sent as an attachment to Secretary@fmc.gov. Include in the email subject line “Petition No P1-16.”

Karen V. Gregory,
Secretary.

[FR Doc. 2016-12020 Filed 5-20-16; 8:45 am]

BILLING CODE 6731-AA-P